DEPARTMENT OF LABOR

Occupational Safety and Health Administration

Advisory Committee on Construction Safety and Health; Notice of Open Meeting

AGENCY: Occupational Safety and Health Administration (OSHA), Labor.

ACTION: Notice of a meeting of the Advisory Committee on Construction Safety and Health (ACCSH).

SUMMARY: ACCSH will meet February 12 and 13, 2004 in Chicago, Illinois. This meeting is open to the public.

Time and Date: ACCSH will meet from 9 a.m. to 5 p.m., Thursday, February 12, and, if necessary, 8:30 a.m. to Noon on Friday, February 13, 2004.

Place: ACCSH will meet at the Embassy Suites Hotel, 5500 North River Road, Rosemont, IL.

FOR FURTHER INFORMATION CONTACT: For general information about ACCSH and the ACCSH meetings: Steve Cloutier, OSHA, Directorate of Construction, Room N-3468, U.S. Department of Labor, 200 Constitution Avenue, NW., Washington, DC 20210; telephone (202) 693-2020. For information about submission of comments, requests to speak, and the need for accommodations at the meeting: Veneta Chatmon, OSHA, Office of Public Affairs, Room N-3647, U.S. Department of Labor, 200 Constitution Avenue, NW., Washington, DC 20210; telephone (202) 693-1999. Electronic copies of this Federal Register notice, as well as information about ACCSH workgroups and other relevant documents, are available at OSHA's Web page on the Internet at http://www.osha.gov.

SUPPLEMENTARY INFORMATION: ACCSH will meet February 12, and, if necessary, 8:30 a.m. to Noon on Friday, February 13, 2004, in Chicago, Illinois. This meeting is open to the public. The agenda for this meeting includes:

• Remarks by the Assistant Secretary for Occupational Safety and Health, John L. Henshaw.

• Crane and Derrick Negotiated Rulemaking Advisory Committee Update.

• Directorate of Standards and Guidance Report on the Current Status of Ongoing Health Standards and Their impact on Construction, including: Chromium, Silica and Hearing Conservation.

• Update on Partnerships and Alliances in Construction.

• Hispanic Workforce in Construction.

• Other Committee Reports.

• Public Comments (members of the public who wish to address ACCSH, please see the information below to request time to speak at the meeting).

All ACCSH meetings are open to the public. An official record of the meeting will be available for public inspection at the OSHA Docket Office, Room N-2625 at the address above, telephone (202) 693-2350. Individuals needing special accommodations should contact Ms. Chatmon no later than January 28, 2004 at the address above. Interested parties may submit written data, views or comments, preferably with 20 copies, to Ms. Chatmon at the address above. OSHA will provide submissions received prior to the meeting to ACCSH members, and it will include each submission in the record of the meeting. Attendees also may request to make an oral presentation by notifying Ms. Chatmon before the meeting at the address above. The request must state the amount of time desired, the interest represented by the presenter (e.g., the name of the business, trade association, government Agency, etc.), if any, and a brief outline of the presentation. The Chair of ACCSH may grant the request at his discretion and as time permits.

Authority: John L. Henshaw, Assistant Secretary of Labor for Occupational Safety and Health, directed the preparation of this notice under the authority granted by Section 7 of the Occupational Safety and Health Act of 1970 (29 U.S.C. 656), Section 107 of the Contract Work Hours and Safety Standards Act (Construction Safety Act) (40 U.S.C. 333), and Secretary of Labor's Order No. 5-2002 (67 FR 65008).

Signed at Washington, DC, January 22, 2004.
John L. Henshaw,
Assistant Secretary of Labor for Occupational Safety and Health.

[FR Doc. 04-1788 Filed 1-27-04; 8:45 am]

BILLING CODE 4510-26-P